DEPARTMENT OF TRANSPORTATION

National Highway Traffic Safety Administration

[Docket No. NHTSA-2012-0084]

Data Modernization Sampling Information

AGENCY: National Highway Traffic Safety Administration (NHTSA), Department of Transportation (DOT).

ACTION: Announcement of webinar.

SUMMARY: NHTSA has redesigned the National Automotive Sampling System (NASS). Through this notice, NHTSA is announcing a public webinar to provide information about the two new surveys that will replace NASS: Crash Report Sampling System (CRSS) and Crash Investigation Sampling System (CISS). NHTSA will describe the samples designs and answer questions related to the samples. The webinar will be available via the web and requires internet access.

DATES: NHTSA will hold the webinar on April 29, 2015, from 1:30 p.m. to 3:00 p.m., EDT. The presentation will be available through internet access only via the web. NHTSA will post specific information on how to participate via the Internet on the NHTSA Web site at www.nhtsa.gov one week before the event.

FOR FURTHER INFORMATION CONTACT: For information concerning the webinar or access via the Internet, please contact Raj Subramanian, National Center for Statistics and Analysis, NHTSA (telephone: 202-366-3365 or email: raj.subramanian@dot.gov).

SUPPLEMENTARY INFORMATION: The webinar will allow interested persons to learn more about NHTSA's newly designed nationally representative samples that will replace NASS.

Background

NHTSA is undertaking a modernization effort to upgrade the National Automotive Sampling System (NASS) by improving the information technology infrastructure, updating and prioritizing the data collected, reselecting the sample sites and sample sizes, re-examining the electronic formats in which the crash data files are made available to the public, and improving data collection methods and quality control procedures, among other activities. This project is called the Data Modernization (DataMod) Project.

NASS collects crash data on a nationally representative sample of police-reported motor vehicle traffic crashes and related injuries. NASS data are used by Federal, State, and local government agencies, as well as by industry and academia in the U.S. and around the world. The data enable stakeholders to make informed regulatory, program, and policy decisions regarding vehicle design and traffic safety. The NASS system currently has two components: The General Estimates System (GES) and the Crashworthiness Data System (CDS). While the GES captures information on all types of traffic crashes, the CDS focuses on more severe crashes involving passenger vehicles to better document the consequences to vehicles and occupants in crashes—i.e., crashworthiness.

NASS was originally designed in the 1970's, and has not received significant revision since that time with regard to the type of data collected and the sites for data collection. Over the last three decades NHTSA understands that the scope of traffic safety studies has expanded and the data needs of the transportation community have increased and significantly changed. In addition, the distribution of the U.S. population has shifted over the past four decades, and there is a growing need for the collection of information that addresses issues of crash avoidance. Recognizing the importance of this data, NHTSA is pursuing the DataMod Project to enhance the quality of the data collected and the overall effectiveness of the NASS.

As part of the Data Modernization project, NHTSA has redesigned the NASS. It will be replaced with two new surveys:

• CRSS will be a records-based data collection system similar to the current GES and will continue to provide the annual, nationally representative estimates of police-reported motor vehicle crashes overall. In addition, CRSS will provide estimates by type of vehicle, and for a broad range of vehicle and crash characteristics that are needed to fully describe current highway safety and to track motor vehicle crash trends.

• CISS is an investigation-based system similar to the current CDS and will collect accurate, detailed information about a nationally representative selection of passenger vehicle crashes that involve a passenger vehicle towed from the crash scene. Researchers will investigate crashes a few days after the crash gathering information from a variety of sources: crash site inspection, vehicle inspections, interviews, medical records and others. CISS will have enhanced pre-crash data and data on the presence and use of crash avoidance technologies.

Information on the current NASS sample, coding instructions, and descriptive materials can be reviewed on NHTSA's Web site at: http://nhtsa.gov/NASS. Information on the Data modernization project and the report to Congress on NHTSA's Review of the National Automotive Sample System can be reviewed at: http://www.nhtsa.gov/NCSA.

Public Webinar

NHTSA is hosting a public webinar to inform vehicle manufacturers and suppliers, the medical community, researchers, safety advocates and the general public about the new sample designs for CRSS and CISS. NHTSA will present a technical overview of the new sample designs covering the following topics:

Draft Topics

1. Welcome and Opening Remarks

2. Webinar Outline

3. Data Modernization

a. MAP-21

b. Data Needs

4. Sample Redesign: Why and How?

a. Current Systems: GES and CDS three-stage designs

b. Independence between CRSS and CISS samples

5. The CISS Sample Design

a. Scope

b. Frame, Stratification, Formation and Selection of each of the three stages (PSU, PJ and PAR)

c. Sample Allocation

6. The CRSS Sample Design

a. Scope

b. Frame, Stratification, Formation and Selection of each of the three stages (PSU, PJ and PAR)

c. Sample Allocation

7. Improvements in CISS/CRSS

a. Scalability and Flexibility

b. Precision of Estimates

c. MOS aligned with Data Needs

8. Ongoing and Upcoming Activities in Survey Modernization

a. Estimation Protocols

b. Calibration

c. Analytic Guidelines

9. Questions

The webinar will be open to the public. NHTSA will present the new sample designs starting at 1:30 p.m. The presentation will be about one hour. After the presentation NHTSA has scheduled 30 minutes to answer questions from the participants on the sample designs.

Participants may access the Webinar via the Internet and telephone. The telephone access number and other information on how to participate via the Internet will be posted on the NHTSA Web site at www.nhsta.gov one week before the event. For questions, contact Raj Subramanian at raj.subramanian@dot.gov or 202-366-3385.

Under authority delegated by 49 CFR 1.95.

Terry Shelton,
Associate Administrator, National Center for Statistics and Analysis.

[FR Doc. 2015-08477 Filed 4-13-15; 8:45 am]

BILLING CODE P